POSTAL SERVICE

Board of Governors; Sunshine Act Meeting; Notification of Item Added to Meeting Agenda

Date of Meeting: September 8, 2003.

Status: Closed.

Previous Announcement: 68 FR 52065, August 29, 2003.

Addition: Postal Rate Commission Opinion and Recommended Decision in Docket No. MC2003-2, Experimental Parcel Return Services.

At its meeting on September 8, 2003, the Board of Governors of the United States Postal Service voted unanimously to add this item to the agenda of its closed meeting and that no earlier announcement was possible. The General Counsel of the United States Postal Service certified that in her opinion discussion of this item could be properly closed to public observation.

FOR FURTHER INFORMATION CONTACT: William J. Johnstone, Secretary of the Board, U.S. Postal Service, 475 L'Enfant Plaza, SW., Washington, DC 20260-1000.

William T. Johnstone,
Secretary.

[FR Doc. 03-23767 Filed 9-12-03; 2:38 pm]

BILLING CODE 7710-12-M